DEPARTMENT OF THE INTERIOR

Bureau of Land Management

[NM-030-04-1610-DR]

Notice of Change to Proposed Resource Managment Plan Amendment; Notice of Public Comment Period

AGENCY: Bureau of Land Management (BLM), Interior.

ACTIONS: Notice of Change to the Proposed Resource Management Plan Amendment (RMPA) for Federal Fluid Minerals Leasing and Development in Sierra and Otero Counties, New Mexico, and opening of a 30-day public comment period.

Notice of availability of a Supplement to the Final Environmental Impact Statement (EIS) for the Proposed RMPA for Federal Fluid Minerals Leasing and Development in Sierra and Otero Counties, New Mexico, and opening of a 30-day public comment period.

SUMMARY: In response to recommendations offered by the Governor of New Mexico, made pursuant to 40 CFR 1610.3-2, and concerns raised in protests to the Proposed RMPA, the BLM announces a change to the Proposed RMPA for Federal Fluid Minerals Leasing and Development in Sierra and Otero Counties, New Mexico. The BLM is now proposing to discretionarily close to fluid mineral leasing approximately 35,790 acres located in the Nutt and Otero Mesa desert grasslands habitat areas. The Proposed RMPA described these areas as being withheld from leasing for 5 years and then subject to reevaluation. A 30-day period is being provided to allow the public an opportunity to comment on this proposed closure. See 43 CFR 1610.5-1(b). A supplement to the Final EIS for the Proposed RMPA for Federal Fluid Minerals Leasing and Development in Sierra and Otero Counties is now available. See 40 CFR 1502.9(c)(2). The Final EIS Supplement analyzes the impacts of the proposed closure described above. It also provides additional analysis regarding the proposed action alternative (Alternative A Modified) identified in the Proposed RMPA. Alternative A Modified reflected changes made in response to public comments offered on the Draft RMPA and EIS. See 40 CFR 1503.4(a). A 30-day period is being provided to allow the public an opportunity to comment on both the analysis contained in the Final EIS Supplement and the analysis of Alternative A Modified as presented in the Proposed RMPA and Final EIS. See 40 CFR 1503.1(b).

The comment periods will run concurrently. At this time, no final decision has been made regarding either the proposed closure or any other aspect of Alternative A Modified. All comments submitted during this period will be considered by the BLM as part of its decision-making process in this matter.

ADDRESSES: A single document describing the proposed closure and containing the Final EIS Supplement is available upon request from the Las Cruces BLM Field Office and the BLM State Office in Santa Fe, New Mexico. In addition, the document is available on the BLM Web site at www.nm.blm.gov. Comments must be sent to: State Director Linda Rundell, Supplement Comments, Bureau of Land Management, P.O. Box 27115, Santa Fe, NM 87502-0115. If sent by an overnight delivery service or hand carried, the address is as follows: State Director Linda Rundell, Supplement Comments, Bureau of Land Management, 1474 Rodeo Road, Santa Fe, NM 87505. The comment periods will begin on the date the Environmental Protection Agency notice of availability of the Final EIS Supplement appears in the Federal Register and will end 30 days after that date. The ending date for the comment period will be on the BLM Web site listed above and in news releases provided to the local media.

FOR FURTHER INFORMATION CONTACT: Tom Phillips, Las Cruces Field Office, 1800 Marquess Street, Las Cruces, NM 88005-3371. The phone number is (505) 525-4377.

SUPPLEMENTARY INFORMATION: Both the Draft RMPA/EIS and Proposed RMPA/Final EIS were developed with broad public participation during a 6-year collaborative planning process. These documents can be found at the BLM's Web site: www.nm.blm.gov.

Dated: April 30, 2004.
Linda S.C. Rundell,
State Director.

[FR Doc. 04-11500 Filed 5-27-04; 8:45 am]

BILLING CODE 4310-FB-P